DEPARTMENT OF AGRICULTURE

Foreign Agricultural Service

7 CFR Part 1580

RIN 0551-AA66

Trade Adjustment Assistance for Farmers

AGENCY: Foreign Agricultural Service, USDA.

ACTION: Technical amendments.

SUMMARY: This final rule makes technical corrections to the final rule published on August 20, 2003, implementing the Trade Adjustment Assistance for Farmers (TAA) program.

DATES: Effective on November 6, 2003.

FOR FURTHER INFORMATION CONTACT: Richard Blabey, Director, Import Policies and Programs Division, Foreign Agricultural Service, 1400 Independence Avenue, SW., STOP 1021, by e-mail at: trade.adjustment@fas.usda.gov, telephone (202) 720-2916, or fax at (202) 720-0876.

SUPPLEMENTARY INFORMATION: A final rule implementing the TAA program was published on August 20, 2003 (60 FR 50048). The rule, which is codified at 7 CFR part 1580, implements Chapter 6 of Title II of the Trade Act of 1974, as amended by subtitle C of Title I of the Trade Act of 2002 (Pub. Law 107-210) (19 U.S.C. 2551, et seq.) (the Trade Act).

As published, the final rule contained four technical errors or inadvertent omissions. The corrections being made are described as follows:

Section 1580.102 of the regulation defines certification date to mean “the date on which the Administrator announces in the Federal Register or by Department news release, whichever comes first, a certification of eligibility to apply for adjustment assistance.” Section 293(a) of the Trade Act states: “Each certification shall specify the date on which eligibility under this chapter begins.” The Trade Act authorizes the Department to announce for each certification the date on which eligibility begins not restricted to the date of the Federal Register notice. Therefore, this flexibility to announce an eligibility date other than the date of publication in the Federal Register, as currently provided for in the rule, will be made available to the Administrator.

Section 1580.203(a)(1) of the regulation states, as a condition for adjustment assistance: “The national average price for the agricultural commodity for the marketing year under review is equal to or less than 80 percent of the average of the national average prices for the 5 marketing years preceding the most recent marketing year.” Section 292(c)(1) of the Trade Act states, as a condition for adjustment assistance: “that the national average price for the agricultural commodity * * * produced by the group for the most recent marketing year for which the national average price is available is less than 80 percent of the average of the national average price for such agricultural commodity * * * for the 5 marketing years preceding the most recent marketing year.” To be consistent with the Trade Act, the Administrator shall certify initial petitions for TAA only when the national average price is less than 80 percent of the average price for the commodity for the 5 preceding marketing years.

Section 1580.302(e) of the regulation states: “Producers shall be entitled to employment services and training benefits under trade adjustment assistance for workers managed by the U.S. Department of Labor.” Section 296(d) of the Trade Act states: “An agricultural commodity producer entitled to receive a cash benefit under this chapter * * * (2) shall be entitled to employment services and training benefits under part II of subchapter B of chapter 2.” The Trade Act authorizes Department of Labor employment services and training benefits to producers entitled to receive a cash benefit. The final rule offers these services and benefits to all TAA applicants. To be consistent with the Trade Act, employment services and training benefits will be available only to those TAA applicants who are eligible for cash benefits.

Section 1580.303(d) of the regulation states: “The total amount of payments made under this part to a person during any fiscal year when considered with the total amount of counter-cyclical payments made in accordance with part 1412 of this title for a corresponding crop year shall not exceed $65,000 per fiscal year, as determined by the Administrator.” Section 296(a)(2)(B) of the Trade Act states: “The total amount of payments made to an agricultural producer under this chapter during any crop year may not exceed the limitation on counter-cyclical payments set forth in section 1001(c) of the Food Security Act of 1985.” The Trade Act applies the $65,000 counter-cyclical payment limitation on a crop year basis. The final rule applies the $65,000 limitation on a fiscal year basis. To be consistent with section 1001(c) of the Food Security Act of 1985, the $65,000 TAA counter-cyclical payment limitation will be imposed on a crop year basis.

Corrections to the Final Rule

Accordingly, FR Rule Doc. No. 03-21338, as published at 68 FR 50048, August 20, 2003, is corrected by revising sections 1580.102, 1580.203(a)(1), 1580.302(e) and 1580.303(d) to read as follows:

PART 1580—[CORRECTED]

1. The authority citation for part 1580 continues to read as follows:

Authority: 19 U.S.C. 2401.

§ 1580.102 [Corrected]

2. In § 1580.102, on page 50050, in the second column, the definition for “Certification date” is revised as follows:

* * * * *

Certification date means the effective date on which the Administrator announces in the Federal Register or by Department news release a certification of eligibility to apply for adjustment assistance.

* * * * *

3. Section 1580.203(a)(1), on page 50051, in the second column, is revised as follows:

§ 1580.203 Determination of eligibility and certification by the Administrator.

* * * * *

(a) * * *

(1) The national average price for the agricultural commodity for the marketing year under review is less than 80 percent of the average of the national average prices for the 5 marketing years preceding the most recent marketing year, and

* * * * *

4. Section 1580.302(e), on page 50052, in the first column, is revised to read as follows:

§ 1580.302 Technical assistance and services.

* * * * *

(e) Producers that furnish all certifications required under § 1580.301(e) shall be entitled to employment services and training benefits under trade adjustment assistance for workers managed by the Department of Labor.

* * * * *

5. Section § 1580.303(d), on page 50052, in the second column, is revised to read as follows:

§ 1580.303 Adjustment Assistance Payments.

* * * * *

(d) The total amount of payments made under this part to a person during any crop year when considered with the total amount of counter-cyclical payments made in accordance with part 1412 of this title for a corresponding crop year shall not exceed $65,000 per crop year, as determined by the Administrator.

* * * * *

Signed at Washington, DC on October 27, 2003.
A. Ellen Terpstra,
Administrator, Foreign Agricultural Service.

[FR Doc. 03-27962 Filed 11-5-03; 8:45 am]

BILLING CODE 3410-10-P